CONSUMER PRODUCT SAFETY COMMISSION

Proposed Extension of Approval of Information Collection; Comment Request—Safety Standard for Automatic Residential Garage Door Operators

AGENCY: Consumer Product Safety Commission.

ACTION: Notice; correction.

SUMMARY: As required by the Paperwork Reduction Act of 1995 (44 U.S.C. Chapter 35), the Consumer Product Safety Commission (CPSC) requested comments on a proposed extension of approval, for a period of 3 years from the date of approval by the Office of Management and Budget (OMB), of a collection of information from manufacturers and importers of residential garage door operators. The collection of information consists of testing and recordkeeping requirements in certification regulations implementing the Safety Standard for Automatic Residential Garage Door Operators (16 CFR part 1211). This document was published in the Federal Register of October 4, 2012, and contains an incorrect docket number.

FOR FURTHER INFORMATION CONTACT: Robert H. Squibb, Consumer Product Safety Commission, 4330 East West Highway, Bethesda, MD 20814; (301) 504-7815, or by email to: rsquibb@cpsc.gov.

Correction

(1) In the Federal Register of October 4, 2012, 77 FR 60686, in the third column, correct the docket number in the heading to read: [Docket No. CPSC-2012-0054];

(2) In the Federal Register of October 4, 2012, 77 FR 60686, in the third column, correct the first sentence of the ADDRESSES section to read: “You may submit comments, identified by Docket No. CPSC-2012-0054, by any of the following methods:”

Dated: October 12, 2012.
Todd A. Stevenson,
Secretary, Consumer Product Safety Commission.

[FR Doc. 2012-25520 Filed 10-16-12; 8:45 am]

BILLING CODE 6355-01-P